DEPARTMENT OF THE INTERIOR

Fish and Wildlife Service

Aquatic Nuisance Species Task Force Western Regional Panel Meeting

AGENCY: Fish and Wildlife Service, Interior.

ACTION: Notice of meeting.

SUMMARY: This notice announces a meeting of the Aquatic Nuisance Species Western Regional Panel Committee. The meeting topics are identified in the SUPPLEMENTARY INFORMATION.

DATES: The Panel will meet from 8:30 a.m. to 5 p.m., on Tuesday, September 26, 2000, and 8:30 a.m. to 5 p.m. on Wednesday, September 27, 2000.

ADDRESSES: The meeting will be held at the Elihu M. Harris State Building, 1515 Clay Street, Training Rooms B, C, D, 2nd Floor, Oakland, California.

FOR FURTHER INFORMATION CONTACT: Sharon Gross, Executive Secretary, Aquatic Nuisance Species Task Force at 703-358-2308 or by e-mail at: sharon_gross@fws.gov or Linda Drees, Western Regional Panel Coordinator at 785-539-3473 (ext. 107) or by e-mail at linda_drees@fws.gov.

SUPPLEMENTARY INFORMATION: Pursuant to section 10(a)(2) of the Federal Advisory Committee Act (5 U.S.C. App. I), this notice announces a meeting of the Aquatic Nuisance Species Task Force Western Regional Panel Committee. The Task Force was established by the Nonindigenous Aquatic Nuisance Prevention and Control Act of 1990.

The Panel, comprised of representatives from Federal, State, and local agencies and from private environmental and commercial interests, provides the following: (1) Identifies priorities for the Western Region with respect to aquatic nuisance species; (2) makes recommendations to the Task Force regarding an education, monitoring (including inspection), prevention, and control program to prevent the spread of the zebra mussel west of the 100th Meridian; (3) coordinates with other aquatic nuisance species program activities in the Western region; (4) develops an emergency response strategy for Federal, State, and local entities for stemming new invasions of aquatic nuisance species; and (5) provide advance to public and private individuals and entities concerning methods of preventing and controlling aquatic nuisance species. The focus of this meeting will be to: review Panel activities for the past year and develop priorities for the coming year; develop plans to implement priority actions; and provide updates of ongoing activities including ballast water treatment research, marine exotic species surveys and other emerging issues.

Minutes of the meeting will be maintained by the Executive Secretary, Aquatic Nuisance Species Task Force, Suite 851, 4401 North Fairfax Drive, Arlington, Virginia 22203-1622, and will be available for public inspection during regular business hours, Monday through Friday.

Dated: September 5, 2000.
Cathleen I. Short,
Co-Chair, Aquatic Nuisance Species Task Force, Assistance Director—Fisheries and Habitat Conservation.

[FR Doc. 00-23121 Filed 9-7-00; 8:45 am]

BILLING CODE 4310-55-M